FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel-Operating Common Carrier Ocean Transportation Intermediary Applicants

Cargo Freight Services, Ltd., 1740-A Phenix Parkway, College Park, GA 30349, Officers: Hong Wing Lee, Secretary, (Qualifying Individual), Chun Shing Ip, President

ENR Logistics, 555 W. Redondo Beach Blvd., #203, Gardena, CA 90248, Myung Kook Lee, Sole Proprietor

Southern Logistic Service, 8735 Bellanca Avenue, Unit #B, Los Angeles, CA 90045, Namgene Paik, Sole Proprietor

Cargocare Logistics, Ltd., 34 Harvest Lane, Burlington, NJ 08016, Officer: Gary R. Yetter, President, (Qualifying Individual)

Ocean Freight Forwarder—Ocean Transportation Intermediary Applicants

Supplies & Global Logistics, Inc., 3300 S. Gessner, Suite 120, Houston, TX 77063, Officer: Ian G. Buchanan, Director of Operations, (Qualifying Individual)

Margaret J. Zimmer, 8 Torch Pine Court, The Woodlands, TX 77381, Sole Proprietor

Liner Services International, Inc., Stennis Int'l. Airport, 7248 Stennis Airport Drive, Kiln, MS 39556, Officer: Terry D. Liner, President, (Qualifying Individual)

Dated: November 22, 2000.
Bryant L. VanBrakle,
Secretary.

[FR Doc. 00-30315 Filed 11-27-00; 8:45 am]

BILLING CODE 6730-01-P